DEPARTMENT OF COMMERCE

National Oceanic and Atmospheric Administration

RIN 0648-XG18

Identification of Nations Whose Fishing Vessels Are Engaged in Illegal, Unreported, or Unregulated Fishing and/or Bycatch of Protected Living Marine Resources

AGENCY: National Marine Fisheries Service (NMFS), National Oceanic and Atmospheric Administration (NOAA), Commerce.

ACTION: Notice; request for information.

SUMMARY: NMFS is seeking information regarding nations whose vessels are engaged in illegal, unregulated, or unreported (IUU) fishing or engaged in bycatch of protected living marine resources (PLMRs). Such information will be reviewed for the purposes of the identification of nations pursuant to the High Seas Driftnet Fishing Moratorium Protection Act (Moratorium Protection Act).

DATES: Information must be received by April 21, 2008

ADDRESSES: Information must be submitted by mail to NMFS Office of International Affairs, Attn.: Laura Cimo, 1315 East-West Highway, Silver Spring, MD 20910; by E-mail to: laura.cimo@noaa.gov; or by fax to (301) 713-9106.

FOR FURTHER INFORMATION CONTACT: Laura Cimo, NMFS Office of International Affairs, (301) 713-9090 ext. 132, e-mail address: laura.cimo@noaa.gov.

SUPPLEMENTARY INFORMATION: The Moratorium Protection Act, as amended by the Magnuson-Stevens Fishery Conservation and Management Reauthorization Act of 2006, requires the United States to strengthen international fishery management organizations and address IUU fishing and bycatch of PLMRs. Specifically, the Moratorium Protection Act requires the Secretary of Commerce to identify in a biennial report to Congress those nations whose fishing vessels are engaged, or have been engaged at any point during the preceding two years, in IUU fishing. Additionally, the Secretary of Commerce must identify in the biennial report those nations whose fishing vessels are engaged, or have been engaged during the preceding calendar year, in fishing activities either in waters beyond any national jurisdiction that result in bycatch of a PLMR, or beyond the U.S. exclusive economic zone (EEZ) that result in bycatch of a PLMR shared by the United States.

The first biennial report is due to Congress in January 2009. The Moratorium Protection Act also mandates the development of regulations that set forth the certification procedures for nations identified in the biennial report. NMFS is currently in the process of developing these regulations and will promulgate a final rule prior to issuing the first certification decisions under this statute. The public will be provided an opportunity to comment on the proposed rule when it is published at a later date.

At this time, NMFS is gathering information for the purposes of identifying nations whose fishing vessels are engaged in IUU fishing or fishing practices that result in bycatch of PLMRs for publication in the first biennial report to Congress. NMFS is soliciting from the public, other nations and international organizations, information that is relevant to the identification of nations engaged in IUU activities and bycatch. Sources of information that NMFS may rely upon to make identifications include, but are not limited to:

• fishing vessel records;

• reports from off-loading facilities, port-side government officials, enforcement agents, military personnel, port inspectors, transshipment vessel workers and fish importers;

• government vessel registries;

• IUU vessel lists from RFMOs;

• RFMO catch documents and statistical document programs;

• appropriate catch or trade certification programs; and

• statistical data or incident reports from governments, international organizations, or nongovernmental organizations.

NMFS will consider all available information, as appropriate, when making a determination whether or not to identify a particular nation in the biennial report to Congress. In its determinations as to whether information is appropriate for use in making identifications, NMFS will consider several criteria, including, but not limited to:

• whether the information can be corroborated;

• whether multiple sources have been able to provide information in support of an identification;

• the methodology used to collect the information;

• specificity of the information provided;

• susceptibility of the information to falsification and alteration; and

• credibility of the individual or organization providing the information.

In addition, NMFS poses the following questions: What sources of information should NMFS consider in identifying nations engaged in IUU fishing activities and bycatch of protected living marine resources? Would the above sources of information be useful to NMFS in making such identifications?

In order to process and verify all information in a timely manner, NMFS will not be able to consider any information submitted after the close of the information gathering period (see DATES).

Dated: March 17, 2008.
Rebecca Lent
Director, Office of International Affairs, National Marine Fisheries Service.

[FR Doc. E8-5786 Filed 3-20-08; 8:45 am]

BILLING CODE 3510-22-S